DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will meet as indicated below.

DATES: September 15, 2011. On September 15, 2011, the Twin Falls District RAC members will meet at the Burley BLM Fire Conference Room, located at 3630 Overland Ave., Burley, Idaho 83318. The meeting will begin at 8:30 a.m. and end no later than 5 p.m. The public comment period for the RAC meeting will take place 2-2:30 p.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During the morning of the September 15th meeting, RAC members will tour different fuel break projects within the Burley Field Office. That afternoon, the RAC will return to the Burley Fire Conference room to discuss Wilderness and Wild and Scenic River and Craters of the Moon National Monument and Preserve Travel Management Plans. Additional topics may be added and will be included in local media announcements.

More information is available at http://www.blm.gov/id/st/en/res/resource_advisory.3.html.

RAC meetings are open to the public. For further information about the meeting, please contact Heather Tiel-Nelson, Public Affairs Specialist for the Twin Falls District, BLM at (208) 736-2352.

Dated: August 5, 2011.
Bill Baker,
District Manager.

[FR Doc. 2011-20929 Filed 8-16-11; 8:45 am]

BILLING CODE 4310-GG-P